DEPARTMENT OF AGRICULTURE

Forest Service

Salmon-Challis National Forest, ID; Upper North Fork HFRA Ecosystem Restoration Project Environmental Impact Statement

AGENCY: Forest Service, USDA.

ACTION: Notice of intent to prepare an environmental impact statement.

SUMMARY: The North Fork Ranger District, Salmon-Challis National Forest, is proposing an integrated hazardous fuels and forest restoration project in the Upper North Fork drainage. The approximately 41,000 acre planning area is being considered for treatments consisting primarily of prescribed burning and mechanical thinning. The drainage area includes the communities of Moose Creek Estates, Royal Elk Ranch, Lost Trail Ski Area, Gibbonsville and North Fork which have widespread private land resources, and have been identified as “at-risk” communities by Lemhi County and the State of Idaho. Lemhi County's Wildfire Prevention Plan has designated the North Fork drainage as high priority for hazardous fuel reduction, an essential criteria allowing the use of authorities and expedited environmental analysis under the Healthy Forest Restoration Act (HFRA) of 2003. A collaborative process was used to obtain suggestions and input on restoration needs and potential activities for this project area to improve the health of the ecosystem and reach the desired future condition.

DATES: Comments concerning the scope of the analysis must be received by September 2, 2011. The draft environmental impact statement is expected in November, 2011 and the final environmental impact statement is expected in March, 2012.

ADDRESSES: Send written comments to Russell Bacon, North Fork District Ranger, Attn: Upper North Fork HFRA Ecosystem Restoration Project EIS, P.O. Box 180, 11 Casey Rd., North Fork, ID 83466. Comments may also be sent via e-mail to comments-intermtn-salmon-challis-northfork@fsfed.us, or via facsimile to (208) 865-2738.

FOR FURTHER INFORMATION CONTACT: Maggie Milligan, Project Team Leader, at (208) 865-2711 or visit the Forest Web site http://www.fs.fed.us/r4/sc/projects/. Individuals who use telecommunication devices for the deaf (TDD) may call the Federal Information Relay Service (FIRS) at 1-800-877-8339 between 8 a.m. and 8 p.m., Eastern Time, Monday through Friday.

SUPPLEMENTARY INFORMATION:

Purpose and Need for Action

Existing forest stand structure and forest vegetation have created the potential for large-scale, high-intensity wildfires that threaten human life, property, and natural resources. Quaking aspen stands provide substantial habitat value for wildlife and contribute to landscape habitat diversity. However, many historic aspen stands in Central Idaho have been lost, and many others are either regenerating poorly or are otherwise in decline. Likewise, whitebark pine is being considered as the first tree species in the Northwest to be listed as endangered because of a lethal combination of blister rust and mountain pine beetle. Historic logging practices and fire suppression have contributed to a decline in ponderosa pine, known to be more fire resilient. In essence, the rich biodiversity in the project area is at risk.

This area contains the State Highway 93 transportation corridor and scenic byway, private lands, residences and a winter recreation ski facility classified by Lemhi County as wildland urban interface (WUI). The purpose is to reduce hazardous natural fuels, restore plant communities and improve fish and wildlife habitat diversity while returning resilient conditions to this fire adapted landscape. This proposal is necessary to compliment other existing, on-going and planned fuels treatments surrounding “at-risk” communities within the North Fork drainage, and to address forest health conditions that are reaching crucial stages towards non-desired change.

Private developments, such as Moose Creek Estates, have responded to these needs and have already completed planning and hazard reduction treatments necessary to gain enrollment as a “Fire-Wise Community” in the State of Idaho.

Proposed Action

Hazardous fuels treatments and associated opportunities have been identified by the Salmon-Challis National Forest for this project through extensive discussions, focused site visits and numerous exchanges of ideas with the Lemhi County Forest Restoration Group and other local community members. Three Idaho Roadless Areas are in the project area. Ladder fuel reduction along road corridors, shaded fuel break creation in strategic locations adjacent to private land and other developments, restoration treatments for mountain meadow and aspen and whitebark pine communities, old growth stand protection, re-establishing landscape fire resilience through prescribe burning, fish habitat and passage restoration are activities proposed for the project. Integrated and adaptive invasive weed management would be an integral activity with all the proposed treatments and restoration actions.

The proposed action includes commercially thinning from below to reduce the understory on approximately 5,123 acres of the project area; 2,687 acres of tractor logging, 1,332 acres of skyline logging and 1,104 acres of helicopter logging. All emphasis would be to retain large trees; whole tree skidding to facilitate use of tree tops and slash as biomass or for pile burning. All slash piles would be left onsite for 1 year for possible biomass utilization. Pre-commercial thinning would occur within the commercial units and in 1300 additional acres. All thinning (commercial/precommercial) units would receive a follow-up prescribed burning treatment.

The project would use the existing transportation system except for the construction of approximately 14 miles of new temporary road of which 2.8 miles are proposed within Idaho Roadless Areas. All new roads or other roads currently closed would be rehabilitated and closed following use. Additionally, 53 miles of non-system roads in the project ara would be decommissioned.

Two site-specific Forest Plan Amendments are proposed in association with this project to change current requirements and prescriptions which limit treatments and activities needed to attain the desired future condition in the project area. Proposed Site Specific Amendment #1—Wildland Fire Management would more closely align with Federal Wildland Fire policy by allowing for the use of unplanned ignitions to meet project objectives. Proposed Site Specific Amendment #2—Big Game Winter Range would change direction regarding cover to forage ratios within management area (MA) 4A in order to achieve fuels reduction objective in this HFRA project.

Responsible Official

Regional Forester, Intermountain Region, 324 25th St., Ogden, UT 84401.

Nature of Decision To Be Made

An environmental impact statement (EIS) that discloses the environmental consequences of implementing the proposed action and alternatives to the proposed action will be prepared. A separate Record of Decision (ROD) will explain the Regional Forester's decision regarding whether or not to implement some level of fuels reduction and other proposed activities on all, part, or none of the area analyzed, given the consideration of multiple-use goals and objectives.

Scoping Process

This notice of intent initiates the scoping process, which guides the development of the environmental impact statement. Comments that would be most useful are those concerning developing or refining the proposed action, in particular are site specific concerns and those that can help us develop treatments and activities that would be responsive to our goal to reduce hazardous fuel conditions, risks to communities from uncharacteristic high-intensity wildfires and landscape restoration needs in the project. It is important that reviewers provide their comments at such times and in such manner that they are useful to the agency's preparation of the environmental impact statement. Therefore, we ask that input be timely and clearly articulate the reviewer's concerns and contentions. Section 104(e) of the HFRA requires agencies to provide notice of the project and conduct a public meeting when preparing authorized hazardous-fuel-reduction projects. A public meeting is scheduled for Thursday, August 18th, 2011 at 6:30pm at the Gibbonsville Improvement Association Building. Additional public meetings are anticipated to be held following publication of the Draft Environmental Impact Statement.

Comments received in response to this solicitation, including names and addresses of those who comment, will be part of the public record for this proposed action. Comments submitted anonymously will be accepted and considered; however, anonymous comments will not provide the Agency with the ability to provide the respondent with subsequent environmental documents.

Dated: July 26, 2011.
Frank V. Guzman,
Forest Superviser.

[FR Doc. 2011-19493 Filed 8-2-11; 8:45 am]

BILLING CODE 3410-11-M